DEPARTMENT OF HOUSING AND URBAN DEVELOPMENT

[Docket No. FR-5828-N-34]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to: Ms. Theresa M. Ritta, Chief Real Property Branch, the Department of Health and Human Services, Room 5B-17, Parklawn Building, 5600 Fishers Lane, Rockville, MD 20857, (301) 443-2265 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Agriculture: Ms. Debra Kerr, Department of Agriculture, Reporters Building, 300 7th Street SW., Room 300, Washington, DC 20024, (202) 720-8873; Commerce: Ms. Linda Steward, Department of Commerce, Office of Real Estate, 1401 Constitution Ave. NW., Room 1036, Washington, DC 20230, (202)-482-1770; Energy: Mr. David Steinau, Department of Energy, Office of Property Management, 1000 Independence Ave. SW., Washington, DC 20585, (202) 287-1503; GSA: Mr. Flavio Peres, General Services Administration, Office of Real Property Utilization and Disposal, 1800 F Street NW., Room 7040, Washington, DC 20405, (202) 501-0084; Navy: Mr. Steve Matteo, Department of the Navy, Asset Management; Division, Naval Facilities Engineering Command, Washington Navy Yard, 1330 Patterson Ave. SW., Suite 1000, Washington, DC 20374; (202) 685-9426 (These are not toll-free numbers).

Dated: August 13, 2015.
Juanita N. Perry,
Special Needs Assistance Program Specialist, Office of Special Needs Assistance Programs.

TITLE V, FEDERAL SURPLUS PROPERTY PROGRAM FEDERAL REGISTER REPORT FOR 08/21/2015

Suitable/Available Properties

Building

Michigan

Luther

Fornell Road

Luzerne MI 48636

Landholding Agency: Agriculture

Property Number: 15201530003

Status: Unutilized

Comments: off-site removal; no future agency need; 40+ yrs. old; 852 sq. ft.; vacant 36+ mos.; poor conditions; contact Agriculture for more information.

Sprinkler Lake Staff Dorm

1700 Adams Rd.,

Glennie MI 48737

Landholding Agency: Agriculture

Property Number: 15201530005

Status: Unutilized

Directions: 51258 Staff Dormitory

Comments: off-site removal only; no future agency need; 2,112 sq. ft.; removal difficult due to size/type; repairs needed; asbestos; contact Agriculture for more information.

Kenton Dwelling #3

5005 East M-28

Kenton MI 49967

Landholding Agency: Agriculture

Property Number: 15201530007

Status: Excess

Directions: Infra #1107

Comments: 1,500 sq. ft.; residential; 50+ yrs.-old; fair conditions; contact Agriculture for more information.

Land

Oklahoma

FAA Oklahoma City Outer Marker

NW 3rd. Street

Oklahoma City OK 73127

Landholding Agency: GSA

Property Number: 54201530003

Status: Surplus

GSA Number: 7-U-OK-0582-AA

Directions: Disposal Agency: GSA; Land Holding Agency: DOT/Federal Aviation Admin.

Comments: 0.27 fee acres and a 0.08 acre assess easement.

West Virginia

Former AL1-RCLR Tower Site

2146 Orleans Rd.,

Great Cacapon WV 25422

Landholding Agency: GSA

Property Number: 54201530002

Status: Surplus

GSA Number: 4-U-WV-0561AA

Directions: Direction: Disposal Agency: GSA? Land Holding Agency: Federal Aviation Administration

Comments: 9.69 acres; located on ridgetop.

Unsuitable Properties

Building

California

Building 2389

2389 Training Street

Marine Corps Camp Pen CA 92055

Landholding Agency: Navy

Property Number: 77201530017

Status: Excess

Comments: Property located within floodway which has not been correct or contained; public access denied and no alternative method to gain access without compromising national security.

Reasons: Floodway; Secured Area

Building 23213 (Storage)

23213 Teamwork Street

Marine Corps Camp Pen CA 92055

Landholding Agency: Navy

Property Number: 77201530018

Status: Underutilized

Comments: Located within floodway which has not been correct or contained; public access denied and no alternative method to gain access w/out compromising national security.

Reasons: Secured Area; Floodway

Illinois

5 Buildings

Argonne National Laboratory

Argonne IL 60439

Landholding Agency: Energy

Property Number: 41201530004

Status: Excess

Directions: OSF031, OSF032, OSF163, OSF264, OSF160

Comments: Public access denied and no alternative method to gain access without compromising national security.

Reasons: Secured Area

Louisiana

2 Buildings

Barksdale AFB

Barksdale AFB LA 71110

Landholding Agency: Navy

Property Number: 77201530020

Status: Unutilized

Comments: Public access denied and no alternative method to gain access without compromising national security.

Reasons: Secured Area

Michigan

Wakeley Lake Storage Building

Wakeley Lake Access Rd.

Grayling MI 49738

Landholding Agency: Agriculture

Property Number: 15201530004

Status: Unutilized

Comments: Documented deficiencies: structurally unsound; clear threat to physical safety.

Reasons: Extensive deterioration

Kenton House #2

4969 East M-28

Kenton MI 49967

Landholding Agency: Agriculture

Property Number: 15201530006

Status: Excess

Directions: Infra #1106

Comments: Documented deficiencies: collapsed foundation and structurally unsound; clear threat to physical safety.

Reasons: Extensive deterioration

Virginia

Sterling Field Support Ctr.,

43741 Weather Service Rd.

Sterling VA 20166

Landholding Agency: Commerce

Property Number: 27201530001

Status: Unutilized

Directions: Building 22, Quonset Hut

Comments: Public access denied and no alternative method to gain access without compromising national security; structurally unsound; building is collapsing.

Reasons: Secured Area; Extensive deterioration

[FR Doc. 2015-20486 Filed 8-20-15; 8:45 am]

BILLING CODE 4210-67-P